DEPARTMENT OF HEALTH AND HUMAN SERVICES

Centers for Medicare & Medicaid Services

Notice of Hearing: Reconsideration of Disapproval Idaho Medicaid State Plan Amendment (SPA) 24-0015

AGENCY: Centers for Medicare & Medicaid Services (CMS), U.S. Department of Health and Human Services (HHS).

ACTION: Notice of hearing: reconsideration of disapproval.

SUMMARY: This notice announces an administrative hearing to be held on April 2, 2025, by way of video, or at the U.S. Department of Health and Human Services, Centers for Medicare & Medicaid Services, 701 Fifth Avenue, Suite 1600, Seattle, WA 98104 to reconsider CMS' decision to disapprove Idaho's Medicaid SPA 24-0015.

DATES: Requests to participate in the hearing as a party must be received by the presiding officer by March 11, 2025.

FOR FURTHER INFORMATION CONTACT: Benjamin R. Cohen, Presiding Officer, HearingOfficer@cms.hhs.gov, CMS Office of Hearings, 7500 Security Blvd., Mail Stop B1-01-31, Baltimore, MD 21244-1850.

SUPPLEMENTARY INFORMATION: This notice announces an administrative hearing to reconsider CMS' decision to disapprove Idaho's Medicaid State Plan Amendment (SPA) 24-0015, which was submitted to the Centers for Medicare & Medicaid Services (CMS) on October 11, 2024, and disapproved on January 6, 2025. This SPA proposed to elect the option authorized under section 1902(e)(16) of the Social Security Act (the Act) to provide continuous Medicaid coverage to pregnant Medicaid beneficiaries for the duration of their pregnancies and through the last day of the month in which the 12-month period (beginning on the last day of their pregnancies) ends. Idaho additionally proposed in the SPA to exclude from its scope individuals whose pregnancies end due to abortions “that are not in accordance with Idaho Code 18-622.”

The issues to be considered at the hearing are whether Idaho's SPA 24-0015 is inconsistent with the requirements of section 1902(e)(16) of the Social Security Act (the Act), which provides that, in states that elect the extended postpartum coverage option, the state plan must provide continuous Medicaid coverage to all individuals who are enrolled in Medicaid while pregnant, from the beginning of their pregnancy (or initial enrollment, if already pregnant at that time) through the end of the 12th month following the date their pregnancy ends.

Section 1116 of the Act and federal regulations at 42 CFR part 430 establish Department procedures that provide an administrative hearing for reconsideration of a disapproval of a state plan or plan amendment. CMS is required to publish in the Federal Register a copy of the notice to a state Medicaid agency that informs the agency of the time and place of the hearing, and the issues to be considered. If we subsequently notify the state Medicaid agency of additional issues that will be considered at the hearing, we will also publish that notice in the Federal Register.

Any individual or group seeking to participate in the hearing as a party must petition the presiding officer within 15 days after publication of this notice, in accordance with the requirements contained at 42 CFR 430.76(b)(2). Any interested person or organization seeking to participate as amicus curiae must petition the presiding officer before the hearing begins in accordance with the requirements contained at 42 CFR 430.76(c). If the hearing is later rescheduled, the presiding officer will notify all participants. Please file any petitions to participate as a party or any amicus curiae petitions by electronic mail at HearingOfficer@cms.hhs.gov.

The notice to Idaho announcing an administrative hearing to reconsider the disapproval of its SPA 24-0015 reads as follows:

Alex J. Adams

Director

Idaho Department of Health and Welfare

450 West State Street, 10th Floor, P.O. Box 83720

Boise, Idaho 83720-0036

Dear Alex J. Adams:

I am responding to the January 20, 2025, request for reconsideration of the decision to disapprove Idaho's State Plan amendment (SPA) 24-0015. Idaho SPA 24-0015 was submitted to the Centers for Medicare & Medicaid Services (CMS) on October 11, 2024, and disapproved on January 6, 2025. I am scheduling a hearing on the request for reconsideration to be held on April 2, 2025, by way of a video hearing or at the Department of Health and Human Services, Centers for Medicare & Medicaid Services, 701 Fifth Avenue, Suite 1600, Seattle, WA 98104.

I am designating Mr. Benjamin R. Cohen as the presiding officer. If these arrangements present any problems, please contact Mr. Cohen at HearingOfficer@cms.hhs.gov. In order to facilitate any communication that may be necessary between the parties prior to the hearing, please notify the presiding officer at HearingOfficer@cms.hhs.gov to indicate acceptability of the hearing date that has been scheduled, whether you will participate in person or by way of video and provide names of the individuals who will represent the State at the hearing. If the hearing date is not acceptable, Mr. Cohen can set another date mutually agreeable to the parties. The hearing will be governed by the procedures prescribed by federal regulations at 42 CFR part 430.

Idaho SPA 24-0015 proposed to elect the option authorized under section 1902(e)(16) of the Social Security Act (the Act) to provide continuous Medicaid coverage to pregnant Medicaid beneficiaries for the duration of their pregnancies and through the last day of the month in which the 12-month period (beginning on the last day of their pregnancies) ends. Idaho additionally proposed in the SPA to exclude from its scope individuals 4-4-5 whose pregnancies end due to abortions “that are not in accordance with Idaho Code 18-622.”

CMS disapproved Idaho SPA 24-0015 because this exclusion is not authorized under section 1902(e)(16) of the Act. As CMS explained in our disapproval letter dated January 6, 2025, under the extended postpartum coverage option at section 1902(e)(16) of the Act, in any state that has elected the option, individuals are entitled to the extended postpartum coverage regardless of the reason their pregnancy ends. CMS referenced in the disapproval letter the CMS state health official (SHO) letter, which explains that “under the extended postpartum option, individuals are entitled to the extended postpartum option regardless of the reason a pregnancy ends.” ¹

¹ CMS SHO 21-007, “Improving Maternal Health and Extending Postpartum Coverage in Medicaid and the Children's Health Insurance Program (CHIP),” SHO 21-007 (December 7, 2021), page 3, available at https://www.medicaid.gov/federal-policy-guidance/downloads/sho21007.pdf.

The issue to be considered at the hearing is whether Idaho SPA 24-0015 is inconsistent with the requirements of section 1902(e)(16) of the Act, which provides that, in states that elect the extended postpartum coverage option, the state plan must provide continuous Medicaid coverage to all individuals who are enrolled in Medicaid while pregnant, from the beginning of their pregnancy (or initial enrollment, if already pregnant at that time) through the end of the 12th month following the date their pregnancy ends.

Subsequent to the completion of the hearing, all parties will be served with a copy of recommended findings and a proposed decision. The parties will then have 20 days to file exceptions to the recommended findings and proposed decision. I am required to issue a final decision within 60 days of the date the proposed decision was served.

Sincerely,

Stephanie Carlton, Acting Administrator.

cc: Benjamin R. Cohen

Section 1116 of the Social Security Act (42 U.S.C. 1316); 42 CFR 430.18 (Assistance Listing Number 93.778, Grants to States for Medicaid.)

The Acting Administrator of the Centers for Medicare & Medicaid Services (CMS), Stephanie Carlton, having reviewed and approved this document, authorizes Vanessa Garcia, who is the Federal Register Liaison, to electronically sign this document for purposes of publication in the Federal Register.

Vanessa Garcia,
Federal Register Liaison, Centers for Medicare & Medicaid Services.

[FR Doc. 2025-02938 Filed 2-21-25; 8:45 am]

BILLING CODE 4120-01-P